Title 3—

The President

Proclamation 8254 of May 9, 2008

National Defense Transportation Day and National Transportation Week, 2008

By the President of the United States of America

A Proclamation

America's transportation system strengthens our national security and keeps our country moving. On National Defense Transportation Day and during National Transportation Week, we thank the men and women of the transportation industry for their efforts to ensure that our Nation's infrastructure operates effectively and efficiently.

Innovation, investment, and imagination have enabled new modes of transportation to revolutionize the world. Today, businesses can deliver goods and services faster than ever, first responders can quickly bring hope and healing to those in need, and people can visit loved ones across the country or around the globe. The Armed Forces utilize modern transportation to deploy troops, move supplies, and bring our heroes home from the front lines. We are grateful for the hard work of all transportation professionals.

My Administration supports the continued creation of safer, more secure, and more reliable roadways, bridges, airports, seaports, and mass transit systems. We are addressing the challenges facing our transportation system today, helping lay the groundwork for future demands, and giving State and local authorities the flexibility to solve transportation problems in their communities. By promoting research in advanced transportation technologies, my Administration is also working to help end our reliance on foreign sources of energy, improve our environment, and strengthen our economic and national security.

To recognize the men and women who work in the transportation industry and who contribute to our Nation's well-being and defense, the Congress, by joint resolution approved May 16, 1957, as amended (36 U.S.C. 120), has requested that the President designate the third Friday in May of each year as “National Defense Transportation Day,” and, by joint resolution approved May 14, 1962, as amended (36 U.S.C. 133), that the week during which that Friday falls be designated as “National Transportation Week.”

NOW, THEREFORE, I, GEORGE W. BUSH, President of the United States of America, do hereby proclaim Friday, May 16, 2008, as National Defense Transportation Day and May 11 through May 17, 2008, as National Transportation Week. I encourage all Americans to learn how our modern transportation system contributes to the security of our citizens and the prosperity of our country and to celebrate these observances with appropriate ceremonies and activities.

IN WITNESS WHEREOF, I have hereunto set my hand this ninth day of May, in the year of our Lord two thousand eight, and of the Independence of the United States of America the two hundred and thirty-second.

[FR Doc. 08-1265

Filed 5-13-08; 8:45 am]

Billing code 3195-01-P